DEPARTMENT OF ENERGY

Federal Energy Regulatory Commission

Sunshine Act Meeting; Notice

January 3, 2001.

The following notice of meeting is published pursuant to section 3(A) of the Government in the Sunshine Act (Pub. L. No. 94-409), 5 U.S.C. 552B:

AGENCY HOLDING MEETING: Federal Energy Regulatory Commission.

DATE AND TIME: January 10, 2001, 10:00 a.m.

PLACE: Room 2C, 888 First Street, NE., Washington, DC 20426.

STATUS: Open.

MATTERS TO BE CONSIDERED: Agenda.

Note—Items Listed on the Agenda may be deleted without further notice.

CONTACT PERSON FOR MORE INFORMATION: David P. Boergers, Secretary, telephone (202) 208-0400 for a recording listing items stricken from or added to the meeting, call (202) 208-1627.

This is a list of matters to be considered by the commission. It does not include a listing of all papers relevant to the items on the agenda; however, all public documents may be examined in the reference and information center.

757th Meeting—January 10, 2001; Regular Meeting (10:00 a.m.)

Consent Agenda—Markets, Tariffs and Rates—Electric

CAE-1.

OMITTED

CAE-2.

DOCKET# ER01-459, 000, NEW ENGLAND POWER POOL

CAE-3.

DOCKET# ER01-484, 000, AMERICAN TRANSMISSION COMPANY LLC

CAE-4.

DOCKET# ER00-1411, 000, ILLINOIS POWER COMPANY

CAE-5.

DOCKET# ER01-123, 000, ILLINOIS POWER COMPANY

CAE-6.

OMITTED

CAE-7.

DOCKET# ER00-2015, 000, NEVADA POWER COMPANY

OTHER#S ER00-2018, 000, SIERRA PACIFIC POWER COMPANY

CAE-8.

DOCKET# EL94-38, 001, CITIES OF BATAVIA AND ST. CHARLES, ILLINOIS V. COMMONWEALTH EDISON COMPANY

OTHER#S ER94-913, 001, CITIES OF BATAVIA AND ST. CHARLES, ILLINOIS V. COMMONWEALTH EDISON COMPANY

CAE-9.

DOCKET# ER99-3144, 003, ALLIANCE COMPANIES, AMERICAN ELECTRIC POWER SERVICE CORPORATION ON BEHALF OF: APPALACHIAN POWER COMPANY, COLUMBUS SOUTHERN POWER COMPANY, INDIANA MICHIGAN POWER COMPANY, KENTUCY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

OHER#S EC99-80, 003, ALLIANCE COMPANIES, AMERICAN ELECTRIC POWER SERVICE CORPORATION ON BEHALF OF: APPALACHIAN POWER COMPANY, COLUMBUS SOUTHERN POWER COMPANY, INDIANA MICHIGAN POWER COMPANY, KENTUCY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

EC99-80, 004, ALLIANCE COMPANIES, AMERICAN ELECTRIC POWER SERVICE CORPORATION ON BEHALF OF: APPALACHIAN POWER COMPANY, COLUMBUS SOUTHERN POWER COMPANY, INDIANA MICHIGAN POWER COMPANY, KENTUCY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

EC99-80, 005, ALLIANCE COMPANIES, AMERICAN ELECTRIC POWER SERVICE CORPORATION ON BEHALF OF: APPALACHIAN POWER COMPANY, COLUMBUS SOUTHERN POWER COMPANY, INDIANA MICHIGAN POWER COMPANY, KENTUCY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

ER99-3144, 004, ALLIANCE COMPANIES, AMERICAN ELECTRIC POWER SERVICE CORPORATION ON BEHALF OF: APPALACHIAN POWER COMPANY, COLUMBUS SOUTHERN POWER COMPANY, INDIANA MICHIGAN POWER COMPANY, KENTUCY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

ER99-3144, 005, ALLIANCE COMPANIES, AMERICAN ELECTRIC POWER SERVICE CORPORATION ON BEHALF OF: APPALACHIAN POWER COMPANY, COLUMBUS SOUTHERN POWER COMPANY, INDIANA MICHIGAN POWER COMPANY, KENTUCY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

EC00-103, 000, CONSUMERS ENERGY COMPANY

ER00-2869, 000, CONSUMERS ENERGY COMPANY

CAE-10.

OMITTED

CAE-11.

DOCKET# EL01-17, 000, NEW YORK INDEPENDENT SYSTEM OPERATOR, INC.

CAE-12.

DOCKET# EL01-9, 000, CLECO EVANGELINE LLC

CAE-13.

DOCKET# EC01-4, 000, CONSUMERS ENERGY COMPANY

OTHER#S ER01-414, 000, CONSUMERS ENERGY COMPANY AND MICHIGAN ELECTRIC TRANSMISSION COMPANY

CAE-14.

DOCKET# RT01-67, 000, GRIDFLORIDA LLC, FLORIDA POWER & LIGHT COMPANY, FLORIDA POWER CORPORATION AND TAMPA ELECTRIC COMPANY

CAE-15.

DOCKET# ER99-28, 002, SIERRA PACIFIC POWER COMPANY

OTHER#S EL99-38, 001, SIERRA PACIFIC POWER COMPANY

ER99-945, 001, SIERRA PACIFIC POWER COMPANY

Consent Agenda—Markets, Tariffs and Rates—Gas

CAG-1.

DOCKET# RP97-406, 027, DOMINION TRANSMISSION, INC.

OTHER#S RP01-74, 002, DOMINION TRANSMISSION, INC.

CAG-2.

OMITTED

CAG-3.

DOCKET# RP00-241, 002, PUBLIC UTILITIES COMMISSION OF THE STATE OF CALIFORNIA V. EL PASO NATURAL GAS COMPANY, EL PASO MERCHANT ENERGY-GAS, L.P. AND EL PASO MERCHANT ENERGY COMPANY

OTHER#S RP00-241, 000, PUBLIC UTILITIES COMMISSION OF THE STATE OF CALIFORNIA V. EL PASO NATURAL GAS COMPANY, EL PASO MERCHANT ENERGY-GAS, L.P. AND EL PASO MERCHANT ENERGY COMPANY

RP00-241, 001, PUBLIC UTILITIES COMMISSION OF THE STATE OF CALIFORNIA V. EL PASO NATURAL GAS COMPANY, EL PASO MERCHANT ENERGY-GAS, L.P. AND EL PASO MERCHANT ENERGY COMPANY

CAG-4.

OMITTED

CAG-5.

OMITTED

CAG-6.

DOCKET# RP01-44, 002, IROQUOIS GAS TRANSMISSION SYSTEM, L.P.

OTHER#S RP01-44, 001, IROQUOIS GAS TRANSMISSION SYSTEM, L.P.

CAG-7.

DOCKET# RP01-87, 000, FITCHBURG GAS & ELECTRIC LIGHT COMPANY V. TENNESSEE GAS PIPELINE COMPANY

CAG-8.

DOCKET# RP00-622, 001, EL PASO NATURAL GAS COMPANY

CAG-9.

DOCKET# RP99-301, 008, ANR PIPELINE COMPANY

Consent Agenda—Miscellaneous

CAM-1.

DOCKET# RM01-2, 000, SUBDELEGATIONS

Consent Agenda—Energy Projects—Hydro

CAH-1.

DOCKET# P-184, 074, EL DORADO IRRIGATION DISTRICT

CAH-2.

DOCKET# P-2984, 036, S.D. WARREN COMPANY

CAH-3.

DOCKET# P-1267, 039, GREENWOOD COUNTY, SOUTH CAROLINA

CAH-4.

DOCKET# P-11634, 001, CONTINENTAL LANDS, INC.

Consent Agenda—Energy Projects—Certificates

CAC-1.

OMITTED

CAC-2.

DOCKET# CP00-447, 000, DISTRIGAS OF MASSACHUSETTS LLC

CAC-3.

OMITTED

CAC-4.

OMITTED

CAC-5.

DOCKET# CP00-456, 000, MONTANA POWER COMPANY, AND 3698157 CANADA LTD.

CAC-6.

DOCKET# CP00-457, 000, CANADIAN-MONTANA PIPE LINE CORPORATION AND 3698157 CANADA LTD.

CAC-7.

DOCKET# CP01-19, 000, CHINOOK PIPELINE COMPANY

CAC-8.

DOCKET# CP01-23, 000, NORTH BAJA PIPELINE, LLC

CAC-9.

DOCKET# CP01-41, 000, EL PASO NATURAL GAS COMPANY

CAC-10.

DOCKET# CP00-383, 000, NORTENO PIPELINE COMPANY

OTHER#S CP00-384, 000, NORTENO PIPELINE COMPANY AND SOUTHERN TRANSMISSION COMPANY

CP00-385, 000, NORTENO PIPELINE COMPANY AND SOUTHERN TRANSMISSION COMPANY

CAC-11.

OMITTED

CAC-12.

OMITTED

CAC-13.

DOCKET# CP96-711, 001, DISCOVERY PRODUCERS SERVICES LLC

OTHER#S CP96-712, 001, DISCOVERY GAS TRANSMISSION LLC

CP96-719, 001, DISCOVERY GAS TRANSMISSION LLC

Energy Projects—Hydro Agenda

H-1.

RESERVED

Energy Projects—Certificates Agenda

C-1.

RESERVED

Markets, Tariffs and Rates—Electric Agenda

E-1.

RESERVED

Markets, Tariffs and Rates—Gas Agenda

G-1.

RESERVED

David P. Boergers,
Secretary.

[FR Doc. 01-613 Filed 1-4-01; 4:48 pm]

BILLING CODE 6717-01-P